MORRIS K. UDALL AND STEWART L. UDALL FOUNDATION

Sunshine Act Meetings

TIME AND DATE: 8:15 a.m. to 3:30 p.m., Thursday, October 27, 2016.

PLACE: The offices of the Morris K. Udall and Stewart L. Udall Foundation, 130 South Scott Avenue, Tucson, AZ 85701.

STATUS: This meeting of the Board of Trustees will be open to the public.

MATTERS TO BE CONSIDERED: (1) Call to Order & Chair's Remarks; (2) Executive Director's Remarks; (3) Distribution of Summary of Ethics Requirements; (4) Consent Agenda Approval (Minutes of the November 6, 2015, February 10, 2016, and April 22, 2016, Board of Trustees Meetings; Board Reports submitted for Education Programs, Finance and Management, Udall Center for Studies in Public Policy-Native Nations Institute-Udall Archives & their Workplan, and U.S. Institute for Environmental Conflict Resolution; and resolutions regarding Allocation of Funds to the Udall Center for Studies in Public Policy and Transfer of Funds to the Native Nations Institute for Leadership, Management, and Policy); and (5) a 2018-2022 Strategic Planning Session.

CONTACT PERSON FOR MORE INFORMATION: Philip J. Lemanski, Executive Director, 130 South Scott Avenue, Tucson, AZ 85701, (520) 901-8500.

Dated: October 7, 2016.
Elizabeth E. Monroe
Executive Assistant, Morris K. Udall and Stewart L. Udall Foundation, and Federal Register Liaison Officer.

[FR Doc. 2016-24784 Filed 10-7-16; 4:15 pm]

BILLING CODE 6820-FN-P